DEPARTMENT OF COMMERCE

International Trade Administration

Request for Applicants for Appointment to the United States Section of the United States-Turkey Business Council

AGENCY: International Trade Administration, Department of Commerce

ACTION: Notice.

SUMMARY: In December 2009, the Governments of the United States and Turkey agreed to establish a U.S.-Turkey Business Council. This notice announces membership opportunities for appointment as American representatives to the U.S. Section of the Council. The current U.S. Section term expired on November 5, 2014.

DATES: Applications should be received no later than February 28, 2015.

ADDRESSES: Please send applications to Ryan Barnes, Senior International Trade Specialist, Office of Europe, U.S. Department of Commerce, either by email at Ryan.Barnes@trade.gov, or by mail to U.S. Department of Commerce, 1401 Constitution Avenue NW., Room 3319, Washington, DC 20230.

FOR FURTHER INFORMATION CONTACT: Ryan Barnes, Senior International Trade Specialist, Office of Europe, U.S. Department of Commerce, telephone: 202-482-4915.

SUPPLEMENTARY INFORMATION: The Under Secretary for International Trade of the U.S. Department of Commerce and the Ministry of Economy of Turkey co-chair the U.S.-Turkey Business Council, pursuant to the Terms of Reference signed on May 25, 2010, by the U.S. and Turkish Governments, which set forth the objectives and structure of the Council. The Terms of Reference may be viewed at: http://www.trade.gov/mac/terms-of-reference-us-turkey-business-council.asp

The Council is intended to facilitate the exchange of information and encourage bilateral discussions of business and economic issues, including promoting bilateral trade and investment and improving the business climate in each country. The Council brings together the respective business communities of the United States and Turkey to discuss such issues of mutual interest and to communicate their joint recommendations to the U.S. and Turkish Governments. The Council consists of the U.S. and Turkish co-chairs and a Committee comprised of private sector members. The Committee is composed of two Sections of private sector members, a U.S. Section and a Turkish Section, each consisting of approximately ten to twelve members, representing the views and interests of their respective private sector business communities. Each government will appoint the members to its respective Section. The Committee will provide joint recommendations to the two governments that reflect private sector views, needs, and concerns regarding creation of an environment in which the private sectors of both countries can partner, thrive, and enhance bilateral commercial ties that could form the basis for expanded trade and investment between the United States and Turkey.

The Department of Commerce is currently seeking applicants for membership on the U.S. Section of the Committee. Each applicant must be a senior-level executive of a U.S.-owned or controlled company that is incorporated in and has its main headquarters located in the United States and that is currently doing business in Turkey. Each applicant also must be a U.S. citizen, or otherwise legally authorized to work in the United States, and be able to travel to Turkey and locations in the United States to attend official Council meetings, as well as U.S. Section and Committee meetings. In addition, the applicant may not be a registered foreign agent under the Foreign Agents Registration Act of 1938, as amended. Applicants may not be federally-registered lobbyists, and, if appointed, will not be allowed to continue to serve as members of the U.S. Section of the Committee if the member becomes a federally-registered lobbyist.

Evaluation of applications for membership in the U.S. Section by eligible individuals will be based on the following criteria:

—A demonstrated commitment by the applicant's company to the Turkish market either through exports or investment.

—A demonstrated strong interest by the applicant's company in Turkey and its economic development.

—The ability by the applicant to offer a broad perspective on the business environment in Turkey, including cross-cutting issues that affect the entire business community.

—The ability by the applicant to initiate and be responsible for activities in which the Council will be active.

Members will be selected on the basis of who will best carry out the objectives of the Council as stated in the Terms of Reference establishing the U.S.-Turkey Business Council. In selecting members of the U.S. Section, the Department of Commerce will also seek to ensure that the Section represents a diversity of business sectors and geographical locations, as well as a cross-section of small, medium, and large-sized firms.

U.S. members will receive no compensation for their participation in Council-related activities. They shall not be considered as special government employees. Individual private sector members will be responsible for all travel and related expenses associated with their participation in the Council, including attendance at Committee and Section meetings. Only appointed members may participate in official Council meetings; substitutes and alternates may not be designated. Members will normally serve for two-year terms, but may be reappointed.

To apply for membership, please submit the following information as instructed in the ADDRESSES and DATES captions above:

1. Name(s) and title(s) of the applicant(s);

2. Name and address of the headquarters of the applicant's company;

3. Location of incorporation of the applicant's company;

4. Percentage share of U.S. citizen ownership in the company;

5. Size of the company in terms of number of employees;

6. Dollar amount of the company's export trade to Turkey;

7. Dollar amount of the company's investments in Turkey;

8. Nature of the company's investments, operations or interest in Turkey;

9. An affirmative statement that the applicant is a U.S. citizen or otherwise legally authorized to work in the United States;

10. An affirmative statement that the applicant is neither registered nor required to register as a foreign agent under the Foreign Agents Registration Act of 1938, as amended;

11. An affirmative statement that the applicant is not a federally-registered lobbyist, and that the applicant understands that if appointed, the applicant will not be allowed to continue to serve as a member of the U.S. Section of the Council if the applicant becomes a federally registered lobbyist;

12. An affirmative statement that the applicant meets all other eligibility requirements;

13. A brief statement of why the applicant should be considered;

14. A brief statement of how the applicant meets the four listed criteria, including information about the candidate's ability to initiate and be responsible for activities in which the Council will be active.

Applications will be considered as they are received. All candidates will be notified of whether they have been selected.

Dated: January 28, 2015.
Jay A. Burgess,
Director of the Office of European Country Affairs (OECA).

[FR Doc. 2015-01936 Filed 1-30-15; 8:45 am]

BILLING CODE 3510-DA-P